DEPARTMENT OF DEFENSE

Defense Acquisition Regulations System

[Docket Number DARS-2014-0033]

Information Collection Requirement; Defense Federal Acquisition Regulation Supplement; Evaluation Factor for Use of Members of the Armed Forces Selected Reserve

AGENCY: Defense Acquisition Regulations System, Department of Defense (DoD).

ACTION: Notice and request for comments regarding a proposed reinstatement of a previously approved information collection requirement.

SUMMARY: In compliance with section 3506(c)(2)(A) of the Paperwork Reduction Act of 1995 (44 U.S.C. chapter 35), DoD announces the intention to request reinstatement of a previously approved information collection from the Office of Management and Budget (OMB), for which approval has expired. DoD seeks public comment on the provisions of the information collection requirement. Specifically, DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) previously approved this information collection requirement for use through February 29, 2012. DoD proposes that OMB reinstate and renew its approval for use for three additional years from date of approval.

DATES: DoD will consider all comments received by July 28, 2014.

ADDRESSES: You may submit comments, identified by OMB Control Number 0704-0446, using any of the following methods:

○ Federal eRulemaking Portal: http://www.regulations.gov. Follow the instructions for submitting comments.

○ Email: osd.dfars@mail.mil. Include OMB Control Number 0704-0446 in the subject line of the message.

○ Fax: (571) 372-6094.

○ Mail: Defense Acquisition Regulations System, Attn: Janetta Brewer, OUSD (AT&L) DPAP (DARS), 3B855, 3060 Defense Pentagon, Washington, DC 20301-3060.

Comments received generally will be posted without change to http://www.regulations.gov, including any personal information provided.

FOR FURTHER INFORMATION CONTACT: Ms. Janetta Brewer, (571) 372-6104. The information collection requirements addressed in this notice are available on the World Wide Web at: http://www.acq.osd.mil/dpap/dars/dfars/index.htm. Paper copies are available from Ms. Janetta Brewer, OUSD (AT&L) DPAP (DARS), 3B855, 3060 Defense Pentagon, Washington, DC 20301-3060.

SUPPLEMENTARY INFORMATION:

Title and OMB Number: Defense Federal Acquisition Regulation Supplement (DFARS), Evaluation Factor for Use of Members of the Armed Forces Selected Reserve; related provision at DFARS 252.215-7005, Evaluation Factor for Employing or Subcontracting with Members of the Selected Reserve; OMB Control Number 0704-0446.

Needs and Uses: In accordance with section 819 of the National Defense Authorization Act for Fiscal Year 2006 (Pub. L. 109-163), the contracting officer may use an evaluation factor that considers whether an offeror intends to perform the contract using employees or individual subcontractors who are members of the Selected Reserve. When such an evaluation factor is used, the contracting officer includes the provision at DFARS 252.215-7005 to require offerors to provide documentation to support any proposal to use employees or individual subcontractors who are members of the Selected Reserve in performance of any resultant contract. This information is required to enable the contracting officer to properly evaluate the offer against the evaluation criteria.

Affected Public: Businesses or other for-profit and not-for-profit institutions.

Annual Burden Hours: 100.

Number of Respondents: 100.

Responses per Respondent: 1.

Annual Responses: 100.

Average Burden per Response: 1 hour.

Frequency: On occasion.

Summary of Information Collection

This information collection requires an offeror, when a solicitation includes an evaluation factor that considers the offeror's intended use of employees, or individual subcontractors who are members of the Selected Reserve, to submit documentation with its offer if it intends to use such employees or individual subcontractors. This documentation may include (1) existing company documentation, such as payroll or personnel records, indicating the names of the Selected Reserve members who are currently employed by the company; or (2) a statement that one or more positions will be set aside to be filled by new hires of Selected Reserve members, along with verifying documentation.

Manuel Quinones,
Editor, Defense Acquisition Regulations System.

[FR Doc. 2014-12449 Filed 5-28-14; 8:45 am]

BILLING CODE 5001-06-P